NATIONAL AERONAUTICS AND SPACE ADMINISTRATION

[Notice 07-042]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: May 29, 2007.

FOR FURTHER INFORMATION CONTACT: Kaprice L. Harris, Attorney Advisor, Glenn Research Center at Lewis Field, Code 500-118, Cleveland, OH 44135; telephone (216) 433-5754; fax (216) 433-6790.

NASA Case No. LEW-17820-1: Method For Ultraminiature Fiber Light Source;

NASA Case No. LEW-18072-1: Benefits Of Acoustic Treatment Over A Rotor Casement For Turbomachinery Applications;

NASA Case No. LEW-17269-2: Reverse-Bias Protected Solar Array With Integrated ByPass Battery;

NASA Case No. LEW-17945-1: Portable Unit for Metabolic Analysis.

Dated: May 21, 2007.
Keith T. Sefton,
Deputy General Counsel, Administration and Management.

[FR Doc. E7-10167 Filed 5-25-07; 8:45 am]

BILLING CODE 7510-13-P